DEPARTMENT OF JUSTICE

Drug Enforcement Administration

Importer of Controlled Substances; Notice of Registration

By Notice dated June 7, 2011, and published in the Federal Register on June 16, 2011, 76 FR 35241, Chattem Chemicals, Inc., 3801 St. Elmo Avenue, Building 18, Chattanooga, Tennessee 37409, made application by renewal to the Drug Enforcement Administration (DEA) to be registered as an importer of the following basic classes of controlled substances:

Drug | Schedule
Methamphetamine (1105) | II
4-Anilino-N-phenethyl-4-piperidine (8333) | II
Phenylacetone (8501) | II
Opium, raw (9600) | II
Poppy Straw Concentrate (9670) | II

The company plans to import the listed controlled substances to manufacture bulk controlled substances for sale to its customers.

As explained in the Correction to Notice of Application pertaining to Rhodes Technologies, 72 FR 3417 (2007), comments and requests for hearings on applications to import narcotic raw material are not appropriate. With regard to all non-Narcotic Raw Material drugs on this application no comments or objections have been received. DEA has considered the factors in 21 U.S.C. 823(a) and 952(a), and determined that the registration of Chattem Chemicals, Inc. to import the basic classes of controlled substances is consistent with the public interest and with United States obligations under international treaties, conventions, or protocols in effect on May 1, 1971. DEA has investigated Chattem Chemicals, Inc. to ensure that the company's registration is consistent with the public interest. The investigation has included inspection and testing of the company's physical security systems, verification of the company's compliance with state and local laws, and a review of the company's background and history. Therefore, pursuant to 21 U.S.C. 952(a) and 958(a), and in accordance with 21 CFR 1301.34, the above named company is granted registration as an importer of the basic classes of controlled substances listed.

Dated: September 28, 2011.
Joseph T. Rannazzisi,
Deputy Assistant Administrator, Office of Diversion Control,
Drug Enforcement Administration.

[FR Doc. 2011-26066 Filed 10-6-11; 8:45 am]

BILLING CODE 4410-09-P